DEPARTMENT OF TRANSPORTATION

Surface Transportation Board

[STB Docket No. AB-6 (Sub-No. 409X)]

The Burlington Northern and Santa Fe Railway Company—Abandonment Exemption—in Jefferson, Thayer and Nuckolls Counties, NE, and Republic County, KS

On April 8, 2004, The Burlington Northern and Santa Fe Railway Company (BNSF) filed with the Board a petition under 49 U.S.C. 10502 for exemption from the provisions of 49 U.S.C. 10903 to abandon and discontinue service over a 39.95-mile line of railroad between milepost 167.78 near Superior, NE, and milepost 127.83 near Reynolds, NE, in Jefferson, Thayer and Nuckolls Counties, NE, and Republic County, KS. The line traverses United States Postal Service Zip Codes 66935, 66959, 66964, 68325, 68327, 68375, 68429, 68943, and 68978. The line includes the stations of Hardy, Byron, Chester, Hubbell, and Reynolds.

The line does not contain federally granted rights-of-way. Any documentation in BNSF's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by July 27, 2004.

Any offer of financial assistance (OFA) under 49 CFR 1152.27(b)(2) will be due no later than 10 days after service of a decision granting the petition for exemption. Each OFA must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than May 18, 2004. Each trail use request must be accompanied by the filing fee, which is scheduled to increase to $200, effective April 28, 2004. See 49 CFR 1002.2(f)(27).¹

¹ See Regulations Governing Fees for Services Performed in Connection with Licensing and Related Services—2002 New Fees, STB Ex Parte No. 542 (Sub-No. 4) (STB served Mar. 29, 2004).

All filings in response to this notice must refer to STB Docket No. AB-6 (Sub-No. 409X) and must be sent to: (1) Surface Transportation Board, 1925 K Street, NW., Washington, DC 20423-0001; and (2) Michael Smith, Freeborn & Peters LLP, 311 S. Wacker Drive, Suite 3000, Chicago, IL 60606-6677. Replies to the petition are due on or before May 18, 2004.

Persons seeking further information concerning abandonment and discontinuance procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: April 19, 2004.
By the Board, David M. Konschnik, Director, Office of Proceedings.
Vernon A. Williams,
Secretary.

[FR Doc. 04-9411 Filed 4-27-04; 8:45 am]

BILLING CODE 4915-01-P